DEPARTMENT OF COMMERCE

International Trade Administration

[A-557-815, A-549-830, A-552-816]

Welded Stainless Steel Pressure Pipe Orders From Malaysia, Thailand, and the Socialist Republic of Vietnam: Final Results of the Expedited Second Sunset Reviews of the Antidumping Duty Orders

AGENCY: Enforcement and Compliance, International Trade Administration, Department of Commerce.

SUMMARY: As a result of these second expedited sunset reviews, the U.S. Department of Commerce (Commerce) finds that revocation of the antidumping duty (AD) orders on welded stainless steel pressure pipe (welded pipe) from Malaysia, Thailand and the Socialist Republic of Vietnam (Vietnam) would be likely to lead to the continuation or recurrence of dumping at the levels indicated in the “Final Results of Second Sunset Reviews” section of this notice.

DATES: Applicable March 11, 2025.

FOR FURTHER INFORMATION CONTACT: Thomas Conley, Trade Agreements Policy and Negotiations, Enforcement and Compliance, International Trade Administration, U.S. Department of Commerce, 1401 Constitution Avenue NW, Washington, DC 20230; telephone: (202) 482-3931.

SUPPLEMENTARY INFORMATION:

Background

On July 21, 2014, Commerce published the Orders in the Federal Register.¹ On November 4, 2024, Commerce published the initiation of the second sunset reviews of the Orders, pursuant to section 751(c) of the Tariff Act of 1930, as amended (the Act).² On November 15, 2024, Commerce received notices of intent to participate in the sunset reviews from Bristol Metals, LLC., Felker Brothers Corporation, and Primus Pipe and Tube Inc. (collectively, Domestic Interested Parties) within the deadline specified in 19 CFR 351.218(d)(1)(i).³ The Domestic Interested Parties claimed interested party status pursuant to section 771(9)(C) of the Act as manufacturers in the United States of a domestic like product.⁴ On December 4, 2024, pursuant to 19 CFR 351.218(d)(3)(i), the Domestic Interested Parties filed timely and adequate substantive responses.⁵ Commerce did not receive a substantive response from any respondent interested party.

¹ See Welded Stainless Pressure Pipe from Malaysia, Thailand, and the Socialist Republic of Vietnam: Antidumping Duty Orders, 79 FR 42289 (July 21, 2014) (Orders).

² See Initiation of Five-Year (Sunset) Reviews, 89 FR 87543 (November 4, 2024).

³ See Domestic Interested Parties' Letters, “Five-Year (“Sunset”) Review of the Antidumping Duty Order on Welded Stainless Steel Pressure Pipe from Malaysia: Domestic Interested Parties' Notice of Intent to Participate, dated November 15, 2024; “Five-Year (“Sunset”) Review of the Antidumping Duty Order on Welded Stainless Steel Pressure Pipe from Thailand: Domestic Interested Parties' Notice of Intent to Participate,” dated November 15, 2024; and “Five-Year (“Sunset”) Review of the Antidumping Duty Order on Welded Stainless Steel Pressure Pipe from Vietnam: Domestic Interested Parties' Notice of Intent to Participate,” dated November 15, 2024.

⁴ Id.

⁵ See Domestic Interested Parties' Letters, “Five-Year (“Sunset”) Review of the Antidumping Duty Order on Welded Stainless Steel Pressure Pipe from Malaysia: Domestic Interested Parties' Substantive Response,” dated December 4, 2024; “Five-Year (“Sunset”) Review of the Antidumping Duty Order on Welded Stainless Steel Pressure Pipe from Thailand: Domestic Interested Parties' Substantive Response,” dated December 4, 2024; and “Five-Year (“Sunset”) Review of the Antidumping Duty Order on Welded Stainless Steel Pressure Pipe from the Socialist Republic of Vietnam: Domestic Interested Parties' Substantive Response,” dated December 4, 2024.

On December 26, 2024, Commerce notified the U.S. International Trade Commission that it did not receive substantive responses from any respondent interested parties.⁶ As a result, pursuant to section 751(c)(3)(B) of the Act and 19 CFR 351.218(e)(1)(ii)(C)(2), Commerce conducted expedited (120-day) sunset reviews of the Orders.

⁶ See Commerce's Letter, “Sunset Reviews Initiated on November 4, 2024,” dated December 26, 2024.

Scope of the Orders

The product covered by these Orders is circular welded austenitic stainless steel pressure pipe not greater than 14 inches in outside diameter from Malaysia, Thailand, and Vietnam. For a full description of the scope of the Orders, see the Issues and Decision Memorandum.⁷

⁷ See Memorandum, “Issues and Decision Memorandum for the Final Results of the Expedited Second Sunset Reviews of the Welded Stainless Steel Pressure Pipe Orders from Malaysia, Thailand, and the Socialist Republic of Vietnam,” dated concurrently with, and hereby adopted by, this notice.

Analysis of Comments Received

A complete discussion of all issues raised in these sunset reviews is contained in the accompanying Issues and Decision Memorandum.⁸ A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be directly accessed at https://access.trade.gov/public/FRNoticesListLayout.aspx.

⁸ Id.

Final Results of Second Sunset Reviews

Pursuant to sections 751(c)(1) and 752(c)(1) and (3) of the Act, Commerce determines that revocation of the Orders would likely lead to the continuation or recurrence of dumping and that the magnitude of the dumping margins likely to prevail would be weighted-average dumping margins up to 167.11 percent for Malaysia, 24.01 percent for Thailand, and 16.25 percent for Vietnam.⁹

⁹ See Orders.

Administrative Protective Order

This notice serves as the only reminder to interested parties subject to an administrative protective order (APO) of their responsibility concerning the return/destruction or conversion to judicial protective order of proprietary information disclosed under APO in accordance with 19 CFR 351.305(a). Timely notification of the return or destruction of APO materials or conversion to judicial protective order is hereby requested. Failure to comply with the regulations and terms of an APO is a violation which is subject to sanction.

Notification to Interested Parties

We are issuing and publishing these results and notice in accordance with sections 751(c), 752(c), and 777(i)(1) of the Act and 19 CFR 351.218(e)(1)(ii)(C)(2) and 19 CFR 351.221(c)(5)(ii).

Dated: March 4, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Sunset Reviews

VIII. Recommendation

[FR Doc. 2025-03824 Filed 3-10-25; 8:45 am]

BILLING CODE 3510-DS-P